ENVIRONMENTAL PROTECTION AGENCY

40 CFR Part 721

[EPA-HQ-OPPT-2012-0740; FRL-9907-54]

RIN 2070-AB27

Significant New Use Rules on Certain Chemical Substances; Withdrawal

AGENCY: Environmental Protection Agency (EPA).

ACTION: Proposed rule; withdrawal.

SUMMARY: EPA is withdrawing a significant new use rule (SNUR) proposed under the Toxic Substances Control Act (TSCA) for chemical substances generically identified as vinylidene esters, which were the subject of premanufacture notices (PMNs) P-12-298 and P-12-299. The Agency is taking this action in response to public comments received on the proposed rule.

DATES: Proposed § 721.10623, published in the Federal Register of April 18, 2013 (78 FR 23184) is withdrawn as of March 26, 2014.

ADDRESSES: The docket for this action, identified by docket identification (ID) number EPA-HQ-OPPT-2012-0740, is available at http://www.regulations.gov or at the Office of Pollution Prevention and Toxics Docket (OPPT Docket), Environmental Protection Agency Docket Center (EPA/DC), EPA West Bldg., Rm. 3334, 1301 Constitution Ave. NW., Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

FOR FURTHER INFORMATION CONTACT:

For technical information contact: Kenneth Moss, Chemical Control Division (7405M), Office of Pollution Prevention and Toxics, Environmental Protection Agency, 1200 Pennsylvania Ave. NW., Washington, DC 20460-0001; telephone number: (202) 564-9232; email address: moss.kenneth@epa.gov.

For general information contact: The TSCA-Hotline, ABVI-Goodwill, 422 South Clinton Ave., Rochester, NY 14620; telephone number: (202) 554-1404; email address: TSCA-Hotline@epa.gov.

SUPPLEMENTARY INFORMATION: In the Federal Register of November 2, 2012 (77 FR 66149) (FRL-9366-7), EPA issued a direct final SNUR on the chemical substances generically identified as vinylidene ester, which were the subject of premanufacture notices (PMNs) P-12-298 and P-12-299, in accordance with the procedures at § 721.160(c)(3)(i). EPA received notices of intent to submit adverse comments on this SNUR. Therefore, as required by § 721.160(c)(3)(ii), EPA removed the direct final SNUR in a separate final rule published in the Federal Register of December 21, 2012 (77 FR 75566) (FRL 9373-8), and in the Federal Register of April 18, 2013 (78 FR 23184), EPA issued a proposed SNUR for these chemical substances.

EPA is now withdrawing the April 18, 2013 proposed rule, issued for two chemical substances which were the subject of PMN P-12-298 and P-12-299. This action is being taken based upon experimental data provided by the PMN submitter, and relevant environmental fate and toxicity data associated with cyanoacrylates submitted to the Agency during the public comment period for the proposed SNUR. The Agency determined that this information demonstrated that cyanoacrylates, rather than esters identified in the proposed rule, are more appropriate structural analogues for assessment of potential toxicity of the PMN substances to aquatic organisms, which was the basis for the notification requirements in the proposed SNUR. Based on review of experimental data provided by the PMN submitter, and relevant environmental fate and toxicity data associated with cyanoacrylates, the Agency no longer supports the original concerns for toxicity to aquatic organisms. The Agency's previous concerns for ecotoxicity are mitigated due to the fact that, like cyanoacrylates, the PMN substances react quickly in the presence of water or moisture and the hydrolysis products are not expected to produce toxic effects to aquatic organisms at saturation.

The record for the direct final and proposed SNURs on these chemical substances was established as docket EPA-HQ-OPPT-2012-0740. That record includes information considered by the Agency in developing these rules and this withdrawal, and the public comments received.

List of Subjects in 40 CFR Part 721

Environmental protection, Chemicals, Hazardous substances, Reporting and recordkeeping requirements.

Dated: March 13, 2014.
Maria J. Doa,
Director, Chemical Control Division, Office of Pollution Prevention and Toxics.

[FR Doc. 2014-06573 Filed 3-25-14; 8:45 am]

BILLING CODE 6560-50-P